DEPARTMENT OF HEALTH AND HUMAN SERVICES

National Institutes of Health

Submission for OMB Review; 30-Day Comment Request; A Generic Submission for Formative Research, Pilot Testing, Pretesting and Customer Satisfaction of NIH Communication and Education Resources (OD/OER)

AGENCY: National Institutes of Health, HHS.

ACTION: Notice.

SUMMARY: In compliance with the requirement of the Paperwork Reduction Act of 1995 to provide opportunity for public comment on proposed data collection projects, the Office of Extramural Research (OER), in the Office of the Director (OD), the National Institutes of Health (NIH) will publish periodic summaries of proposed projects to be submitted to the Office of Management and Budget (OMB) for review and approval.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Mikia P. Currie, Chief, Project Clearance Branch (PCB), Office of Policy for Extramural Research Administration, 6705 Rockledge Drive, Suite 803-B, Bethesda, Maryland 20892 or call non-toll-free number (301) 435-0941 or Email your request, including your address to: curriem@mail.nih.gov.

SUPPLEMENTARY INFORMATION: This proposed information collection was previously published in the Federal Register on December 15, 2025, page 58023 (90 FR No.238) and allowed 60 days for public comment. No public comments were received. The purpose of this notice is to allow an additional 30 days for public comment.

The Office of Extramural Research (OER), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: A Generic Submission for Formative Research, Pilot Testing, Pretesting and Customer Satisfaction of NIH Communication and Education Resources (OD/OER), 0925-0046, Revision, exp., date 02/28/2026. Office of Extramural Research (OER), National Institutes of Health (NIH).

Need and Use of Information Collection: This information collection request is to approve a revision to the Generic Submission for Formative Research, Pilot Testing, Pretesting and Customer Satisfaction of NIH Communication and Education Resources. This clearance explores testing messages, forms, applications and materials to assess their potential effectiveness in reaching and communicating with their intended audience while they are still in the developmental stage. The formative research, pilot testing and pretesting process must ensure the relevance, utility, and appropriateness of the many mediums used for forms/applications, educational programs and products that the agency produces. Customer satisfaction studies help identify modifications necessary to meet the needs of various target audiences. Approval is requested for the conduct of multiple studies annually using such methods as interviews, focus groups, and various types of surveys, forms or applications. The content, timing, and respondents included in each sub-study will vary depending on the nature of the message/material/program being assessed, the methodology selected, and the target audiences.

OMB approval is requested for three years. There are no costs to respondents other than their time. The total estimated annualized burden hours are 13,500.

Table A.12-1—Estimated Annualized Burden Hours
Form name | Type of respondents | Number of espondents | Number of responses per respondent | Average time per response (in hours) | Total annual burden hours
Focus Groups, Individual In-Depth Interviews, Brief Interviews, Surveys, Website Usability Testing, Applications, Forms | Individuals (General Public) | 9,000 | 1 | 45/60 | 6,750
Focus Groups, Individual In-Depth Interviews, Brief Interviews, Surveys, Website Usability Testing, Applications, Forms | Individuals (Health Care Professionals) | 9,000 | 1 | 45/60 | 6,750
Totals |  |  | 18,000 |  | 13,500

Dated: February 24, 2026.
Michelle Bulls,
Director, Office of Policy for Extramural Research Administration, OER, National Institutes of Health.

[FR Doc. 2026-03956 Filed 2-26-26; 8:45 am]

BILLING CODE 4140-01-P